DEPARTMENT OF COMMERCE

National Oceanic and Atmospheric Administration

RIN 0648-XR005

Notice of Availability of a Draft Environmental Assessment, Proposed Evaluation and Pending Determinations, and Hatchery and Genetic Management Plans

AGENCY: National Marine Fisheries Service (NMFS), National Oceanic and Atmospheric Administration (NOAA), Commerce.

ACTION: Notice; extension of comment period.

SUMMARY: NMFS is extending the public comment period on a draft Environmental Assessment (EA), three Proposed Evaluation and Determination Documents (PEPDs), and four Hatchery and Genetic Management Plans (HGMPs) for proposed hatchery programs operated by the Idaho Department of Fish and Game (IDFG), Nez Perce Tribe (NPT), and Washington Department of Fish and Wildlife (WDFW). The extended comment period closes on August 28, 2019.

DATES: Written or electronic scoping comments must be received at the appropriate address or email mailbox (see ADDRESSES) on or before August 28, 2019.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email the following identifier: Comments on Snake River hatchery programs.

FOR FURTHER INFORMATION CONTACT: Emi Kondo, NMFS West Coast Region, telephone: 503-736-4739, email: emi.kondo@noaa.gov.

SUPPLEMENTARY INFORMATION:

ESA-Listed Species Covered in This Notice

• Chinook salmon (Oncorhynchus tshawytscha):

○ Snake River Fall-run (O. tshawytscha): Threatened, naturally and artificially propagated;

○ Snake River Spring/Summer run: Threatened, naturally and artificially propagated;

• Snake River Steelhead (O. mykiss): Threatened, naturally and artificially propagated; and

• Snake River Sockeye (O. nerka): Endangered, naturally and artificially propagated.

Background

Section 9 of the Endangered Species Act (ESA) and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 4(d) of the ESA (50 CFR 223.203(b)).

On Friday, June 28, 2019, NMFS published notice of the availability and opportunity to comment on a draft EA, three PEPDs, and four HGMPs on the proposed hatchery programs that are intended to contribute to the survival and recovery of Snake River Spring/summer Chinook salmon and Snake River steelhead in the Snake River Basin, and enhance fishing opportunity.

NMFS provided notice to advise other agencies and the public of the availability of these documents (84 FR 31049, June 28, 2019) and requested comments be received by July 29, 2019. In response, NMFS received requests from 5 entities for additional time to submit comments on the documents. NMFS has decided to extend the public comment period on the notice of review by 30 days to Wednesday, August 28, 2019, to allow opportunity for the public to review additional information on this project, available on the NMFS West Coast Region website: http://www.westcoast.fisheries.noaa.gov/fisheries/salmon_steelhead/puget_sound_fisheries.html.

Authority: 42 U.S.C. 4321 et seq.; 40 CFR parts 1500-1508; and Companion Manual for NOAA Administrative Order 216-6A, 82 FR 4306.

Dated: July 17, 2019.
Angela Somma,
Chief, Endangered Species Division, National Marine Fisheries Service.

[FR Doc. 2019-15517 Filed 7-19-19; 8:45 am]

BILLING CODE 3510-22-P